DEPARTMENT OF COMMERCE

United States Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-20 Customer Call Center, Assistance and Satisfaction Survey Records.” This action is being taken to update the Privacy Act notice. We invite the public to comment on the amendments noted in this publication.

DATES: Written comments must be received no later than April 18, 2013. The amendments will become effective as proposed on April 18, 2013, unless the USPTO receives comments that would result in a contrary determination.

ADDRESSES: You may submit written comments by any of the following methods:

• Email: Richard.Fernandez@uspto.gov. Include “Privacy Act PAT-TM-20 comment” in the subject line of the message.

• Fax: (571) 273-1180, marked to the attention of Richard Fernandez.

• Mail: Richard Fernandez, Office of Patent Information Management, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Richard Fernandez, Office of Patent Information Management, United States Patent and Trademark Office, P.O. Box 1450, Alexandria, VA 22313-1450, (571) 272-1180.

SUPPLEMENTARY INFORMATION: The United States Patent and Trademark Office (USPTO) is giving notice of an amendment to a system of records that is subject to the Privacy Act of 1974. This system of records maintains information on individuals who request information or assistance through the agency's telephone support system or customer service centers. The Privacy Act notice is being updated with the current office information for the system manager. The description of the routine uses of records maintained in the system has been updated to include use in law enforcement, audits and oversight activities, and distribution to contractors, all uses commonly published in other agency system of records notices.

The amended Privacy Act system of records notice, “COMMERCE/PAT-TM-20 Customer Call Center, Assistance and Satisfaction Survey Records,” is published in its entirety below.

COMMERCE/PAT-TM-20

System name:

Customer Call Center, Assistance and Satisfaction Survey Records.

Security classification:

Unclassified.

System location:

Office of the Chief Information Officer, United States Patent and Trademark Office, 600 Dulany Street, Alexandria, VA 22314.

Categories of individuals covered by the system:

Members of the public, employees, contractors, and other individuals requesting information or assistance through the agency call centers and customer service centers.

Categories of records in the system:

Customer name, company name, email address, telephone and fax numbers, mailing address, date and time of contact, agent name, customer number, description and resolution of the problem or request, customer contact experience and satisfaction, service recommendations, and desire to be contacted to discuss survey results.

Authority for maintenance of the system:

5 U.S.C. 301, 35 U.S.C. 2, and E.O. 12862.

Purpose(s):

To carry out the duties of the USPTO as outlined in 35 U.S.C. 2 concerning the dissemination of information, i.e., facilitating communications and providing quality assistance services upon individual user request. This system serves as a controlled repository for call center and customer data. The USPTO also uses this information to obtain customer feedback concerning their service experience and the level of satisfaction provided by the agency's Electronic Business Center.

Routine uses of records maintained in the system, including categories of users and the purposes of such uses:

The USPTO may use the information contained in this system of records to contact customers regarding their survey responses and comments.

In addition to the routine uses in the Prefatory Statement of General Routine Uses, Nos. 1-5, 9-10, and 12-13, as found at 46 FR 63501-63502 (December 31, 1981):

(1) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(2) Routine uses will include disclosure to an agency, organization, or individual for the purpose of performing audit or oversight operations as authorized by law, but only such information as is necessary and relevant to such audit or oversight function.

(3) Routine uses will include disclosure to contractors and their agents, grantees, experts, consultants, and others performing or working on a contract, service, grant, cooperative agreement, or other work assignment for the USPTO, when necessary to accomplish an agency function related to this system of records. Individuals provided information under this routine use are subject to the same Privacy Act requirements and limitations on disclosure as are applicable to the USPTO employees.

Disclosure to consumer reporting agencies:

Not applicable.

Policies and practices for storing, retrieving, accessing, retaining, and disposing of records in the system:

Storage:

On electronic media.

Retrievability:

By individual's name or other identifier such as email address or telephone number.

Safeguards:

Maintained in areas accessible only to authorized personnel in a building protected by security guards during nonbusiness hours. Systems are password protected.

Retention and disposal:

Records retention and disposal is in accordance with the series records schedules.

System manager(s) and address:

Manager, Patent Electronic Business Center, Office of Patent Information Management (OPIM), United States Patent and Trademark Office, P.O. Box 1450, Alexandria, VA 22313-1450.

Notification procedure:

Information about the records contained in this system may be obtained by sending a request in writing, signed, to the system manager at the address above or to the address provided in 37 CFR 102 subpart B for making inquiries about records covered by the Privacy Act. Requesters should provide their name, address, and record sought in accordance with the procedures for making inquiries appearing in 37 CFR 102 subpart B.

Record access procedures:

Requests from individuals should be addressed as stated in the notification section above.

Contesting record procedures:

The general provisions for access, contesting contents, and appealing initial determinations by the individual concerned appear in 37 CFR 102 subpart B. Requests from individuals should be addressed as stated in the notification section above.

Record source categories:

Subject individuals and those authorized by the individual to furnish information.

Exemptions claimed for the system:

None.

Dated: March 14, 2013.
Susan K. Fawcett,
Records Officer, USPTO, Office of the Chief Information Officer.

[FR Doc. 2013-06263 Filed 3-18-13; 8:45 am]

BILLING CODE 3510-16-P